OFFICE OF THE UNITED STATES TRADE REPRESENTATIVE

[Docket Number USTR-2016-0023]

Generalized System of Preferences (GSP): Initiation of a Review of Argentina for Possible Designation as a Beneficiary Developing Country

AGENCY: Office of the United States Trade Representative.

SUMMARY: This notice announces the initiation of a review to consider designation of Argentina as a beneficiary developing country under the GSP program, and the schedule for public comments and a public hearing relating to whether Argentina meets the criteria for designation.

DATES: December 23, 2016 at midnight EST: Deadline for submission of comments, pre-hearing briefs, and requests to appear at the January 10, 2017, public hearing.

January 10, 2017: The GSP Subcommittee of the Trade Policy Staff Committee (TPSC) will convene a public hearing on the GSP eligibility review of Argentina in Rooms 1 and 2, 1724 F Street NW., Washington DC 20508, beginning at 9:00 a.m.

January 24, 2017 at midnight EST: Deadline for submission of post-hearing briefs.

FOR FURTHER INFORMATION CONTACT: Naomi Freeman, GSP Program, Office of the United States Trade Representative, 1724 F Street NW., Room 514, Washington DC 20508. The telephone number is (202) 395-2974, the fax number is (202) 395-9674, and the email address is GSP@ustr.eop.gov.

SUPPLEMENTARY INFORMATION:

I. Background

The GSP program is authorized by Title V of the Trade Act of 1974 (19 U.S.C. 2461, et seq.), as amended (Trade Act), and is implemented in accordance with Executive Order 11888 of November 24, 1975, as modified by subsequent Executive Orders and Presidential Proclamations. It provides for duty free treatment of designated articles imported from any country that the President designates as a GSP “beneficiary developing country.” In designating countries as GSP beneficiary developing countries, the President must consider the criteria in sections 502(b)(2) and 502(c) of the Trade Act, as amended (19 U.S.C. 2462(b)(2) and (c)), including definitions found in section 507 of the Trade Act (19 U.S.C. 2467). The relevant GSP provisions are available on the USTR Web site at: https://ustr.gov/issue-areas/trade-development/preference-programs/generalized-system-preference-gsp/gsp-program-inf.

On May 28, 2012, Argentina was suspended from the GSP program as a result of a presidential determination that the country was not meeting the statutory GSP eligibility requirements. The United States cited Argentina's failure to enforce arbitral awards in its decision to suspend Argentina from the GSP program. On October 28, 2016, the Government of Argentina requested designation as a beneficiary of the GSP program.

II. Notice of Public Hearing

The GSP Subcommittee of the TPSC will hold a hearing on January 10, 2017, beginning at 9:00 a.m., to receive information regarding the eligibility of Argentina for GSP trade benefits. The hearing will be held at in Rooms 1 and 2, 1724 F Street NW., Washington DC 20508 and will be open to the public and to the press. A transcript of the hearing will be made available on http://www.regulations.gov within approximately two weeks after the date of the hearing.

All interested parties wishing to make an oral presentation at the hearing must submit, following the “Requirements for Submissions” set out below, the name, address, telephone number, and email address, if available, of the witness(es) representing their organization by midnight, December 23, 2016. Requests to present oral testimony must be accompanied by a written brief or summary statement, in English, and also must be received by midnight, December 23, 2016. Oral testimony before the GSP Subcommittee will be limited to five-minute presentations that summarize or supplement information contained in briefs or statements submitted for the record. Post-hearing briefs or statements will be accepted if they conform with the requirements set out below and are submitted, in English, by midnight, January 24, 2017. Parties not wishing to appear at the public hearing may submit pre-hearing and post-hearing briefs or comments by these deadlines.

The GSP Subcommittee strongly encourages submission of all post-hearing briefs or statements by the January 24, 2017 deadline in order to receive timely consideration in the GSP Subcommittee's review of GSP eligibility of Argentina. However, if there are new developments or information that parties wish to share with the GSP Subcommittee after this date, the regulations.gov docket will remain open until a final decision is made. Comments, letters, or other submissions related to Argentina's eligibility review must be posted to the docket in order to be considered by the GSP Subcommittee.

III. Requirements for Submissions

All submissions in response to this notice must conform to the GSP regulations set forth at 15 CFR part 2007, except as modified below. These regulations are available on the USTR Web site at https://ustr.gov/sites/default/files/USTR-Regulations-Pertaining-Eligibility-GSP-Program-15-CFR-Part-2007_0.pdf.

All submissions must be in English and must be submitted electronically via http://www.regulations.gov, using docket number USTR-2016-0023. Hand-delivered submissions will not be accepted.

To make a submission via www.regulations.gov, enter Docket Number USTR-2016-0023 on the home page and click “Search.” The site will provide a search-results page listing all documents associated with this docket. Find the reference to this notice and click on the button labeled “Comment Now.” For further information on using the www.regulations.gov Web site, please consult the resources provided on the Web site by clicking on “How to Use Regulations.gov” on the bottom of the home page.

The www.regulations.gov Web site allows users to provide comments by filling in a “Type Comment” field, or by attaching a document using an “Upload File” field. The GSP Subcommittee prefers that submissions be provided as an attached document. If a document is attached, please type “GSP Review of Argentina” in the “Type Comment” field. USTR prefers submissions in Microsoft Word (.doc) or Adobe Acrobat (.pdf) format. If the submission is in another file format, please indicate the name of the software application in the “Type Comment” field. File names should reflect the name of the person or entity submitting the comments. Please do not attach separate cover letters to electronic submissions; rather, include any information that might appear in a cover letter in the comments themselves. Similarly, to the extent possible, please include any exhibits, annexes, or other attachments in the same file as the comment itself, rather than submitting them as separate files. Submissions should not exceed 30 single-spaced, standard letter-size pages in 12-point type, including attachments.

For any comments submitted electronically that contains business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Additionally, the submitter should type “Business Confidential GSP Review of Argentina” in the “Type Comment” field.

Filers of submissions containing business confidential information also must submit a public version of their comments. The file name of the public version should begin with the character “P”. The “BC” and “P” should be followed by the name of the person or entity submitting the comments. Filers submitting comments containing no business confidential information should name their file using the name of the person or entity submitting the comments. The non-business confidential version will be placed in the docket at www.regulations.gov and be available for public inspection.

Each submitter will receive a submission tracking number upon completion of the submissions procedure at http://www.regulations.gov. The tracking number will be the submitter's confirmation that the submission was received into http://www.regulations.gov. The GSP Subcommittee is not able to provide technical assistance for the Web site. Documents not submitted in accordance with these instructions may not be considered in this review. As noted, the GSP Subcommittee strongly urges submissions be made through www.regulations.gov. Any alternative arrangements must be made in advance of the relevant deadline by contacting Naomi Freeman at (202) 395-2974.

Submissions will be placed in the docket and open to public inspection, except information granted business confidential status under 15 CFR 2003.6. Comments may be viewed on the www.regulations.gov Web site by entering Docket Number USTR-2016-0023 in the “Search” field on the home page.

Erland Herfindahl,
Deputy Assistant U.S. Trade Representative for the Generalized System of Preferences, Office of the U.S. Trade Representative.

[FR Doc. 2016-27917 Filed 11-18-16; 8:45 am]

BILLING CODE 3290-F7-P